DEPARTMENT OF LABOR

Employment and Training Administration

Public Meeting of the Advisory Committee on Apprenticeship (ACA)

AGENCY: Employment and Training Administration (ETA), Labor.

ACTION: Notice of a public meeting.

SUMMARY: Pursuant to the Federal Advisory Committee Act (FACA), notice is hereby given to announce a public meeting of the ACA. All meetings of the ACA are open to the public.

DATES: The meeting will be held on Thursday, March 30, 2023, at the YMCA Early Childhood Impact/Ralph Hawley Early Learning Center located at 1275 61st Street, Emeryville, CA 94608. The meeting will begin at approximately 9 a.m. Pacific Standard Time (PST) and adjourn at approximately 4 p.m. PST. Any updates to the agenda and meeting logistics will be posted on the Office of Apprenticeship's website at: https://www.apprenticeship.gov/advisory-committee-apprenticeship/meetings.

FOR FURTHER INFORMATION CONTACT: The Designated Federal Officer, Mr. John V. Ladd, Administrator, Office of Apprenticeship, Employment and Training Administration, U.S. Department of Labor, 200 Constitution Avenue NW, Room C-5321, Washington, DC 20210; Email: AdvisoryCommitteeonApprenticeship@dol.gov; Telephone: (202) 693-2796 (this is not a toll-free number).

SUPPLEMENTARY INFORMATION: The ACA is a discretionary committee reestablished by the Secretary of Labor on May 4, 2021, in accordance with FACA (5 U.S.C. App. 2 § 10), as amended in 5 U.S.C. App. 2, and its implementing regulations (41 CFR 101-6 and 102-3). The first meeting of the ACA was held on Wednesday, October 6, 2021; the second meeting of the ACA was held on Wednesday, January 26, 2022; the third meeting of the ACA was held on Monday, May 16, 2022; the fourth meeting of the ACA was held on Tuesday, September 27, 2022; and the fifth meeting of the ACA was held on Thursday, January 12, 2023. All past meeting materials are posted here: https://www.apprenticeship.gov/advisory-committee-apprenticeship/meetings. All meetings are open to the public. To promote greater access, webinar and audio conference technology will be used to support public participation in the meeting. In-person space for the meeting is limited. Please send an email to advisorycommitteeonapprenticeship@dol.gov if you plan to attend the meeting in-person, no later than Thursday, March 16, 2023. Members of the public that are unable to join the meeting in-person are encouraged to join the meeting virtually. Both the in-person and virtual participation instructions will be posted prominently on the Office of Apprenticeship's website at: https://www.apprenticeship.gov/advisory-committee-apprenticeship/meetings. If individuals have special needs and/or disabilities that will require special accommodations, please contact Kenya Huckaby at (202) 693-3795 or via email at huckaby.kenya@dol.gov no later than Thursday, March 16, 2023.

Instructions to Attend the Meeting In-Person: Send an email to advisorycommitteeonapprenticeship@dol.gov no later than Thursday, March 16, 2023, to request to attend the meeting in-person. As outlined above, the YMCA Early Childhood Impact/Ralph Hawley Early Learning Center is located at 1275 61st Street, Emeryville, CA 94608. To attend the meeting in person, upon arrival at the YMCA, members of the public will need to sign-in and adhere to the following COVID-19 protocols:

1. Upon entrance, on-site staff will take attendees' temperatures.

2. All meeting attendees are required to wear a mask while in the building.

Instructions to Attend the Meeting Virtually: Virtual meeting participants have two options to access the meeting. Virtual meeting participants can access the meeting by computer or by phone. To access the meeting by computer, meeting participants will use the meeting link and event password posted on the website at: https://www.apprenticeship.gov/advisory-committee-apprenticeship/meetings. To access the meeting by phone, meeting participants will use the dial-in number also posted on the Office of Apprenticeship's website at: https://www.apprenticeship.gov/advisory-committee-apprenticeship/meetings.

Any member of the public who wishes to file written data or comments pertaining to the agenda may do so by sending the data or comments to Mr. John V. Ladd via email at AdvisoryCommitteeonApprenticeship@dol.gov using the subject line “March 2023 ACA Meeting.” Such submissions will be included in the record for the meeting if received by Thursday, March 16, 2023. See below regarding members of the public wishing to speak at the ACA meeting.

Purpose of the Meeting and Topics To Be Discussed: The primary purpose of the March meeting is an in-depth focus on non-traditional apprenticeship programs in Tech, Early Childhood Education, and the Care Economy. The ACA will also discuss and finalize the Strategic Framework Statements, a deliverable discussed at the January meeting. Anticipated agenda topics for this meeting include the following:

• Call to Order

• Remarks from ETA Leadership and Other Apprenticeship Stakeholders

• Early Educator Apprentice Panel

• Insights on Tech Apprenticeship Site Visits

• Discussion on Barriers to Expanding Apprenticeship in the Care Economy

• Subcommittee Report Outs:

○ Strategic Framework

○ Draft Issue Papers

• Public Comment

• Adjourn

The agenda and meeting logistics may be updated should priority items come before the ACA between the time of this publication and the scheduled date of the ACA meeting. All meeting updates will be posted to the Office of Apprenticeship's website at: https://www.apprenticeship.gov/advisory-committee-apprenticeship/meetings. Any member of the public who wishes to speak at the meeting should indicate the nature of the intended presentation and the amount of time needed by furnishing a written statement to the Designated Federal Officer, Mr. John V. Ladd, via email at AdvisoryCommitteeonApprenticeship@dol.gov, by Thursday, March 16, 2023. The Chairperson will announce at the beginning of the meeting the extent to which time will permit the granting of such requests.

Brent Parton,
Acting Assistant Secretary for Employment and Training, Labor.

[FR Doc. 2023-04127 Filed 2-28-23; 8:45 am]

BILLING CODE 4510-FR-P